DEPARTMENT OF DEFENSE

National Geospatial-Intelligence Agency

32 CFR Part 320

[NIMA Instruction 5500.7R1]

Privacy Act; Implementation

AGENCY: National Geospatial-Intelligence Agency, DoD.

ACTION: Final rule.

SUMMARY: The document is published to make administrative changes to the National Geospatial-Intelligence Agency (NGA), formerly know as the National Imagery and Mapping Agency, Privacy Program rule.

EFFECTIVE DATE: This rule is effective January 14, 2004.

FOR FURTHER INFORMATION CONTACT: Ms. M. Flattery, (301) 227-2268.

SUPPLEMENTARY INFORMATION:

List of Subjects in 32 CFR Part 320

Privacy program.

Accordingly, 32 CFR part 320 is amended as follows:

PART 320—NATIONAL GEOSPATIAL-INTELLIGENCE AGENCY (NGA) PRIVACY

Program

1. The authority citation for part 320 continues to read as follows:

Authority: Pub. L. 93-579, 88 Stat. 1986 (5 U.S.C. 552a).

2. The part heading is revised as set forth above.

§ 320.1 [Amended]

3. Section 320.1, paragraph (a)(1)(i) is amended by revising “National Imagery and Mapping Agency (NIMA)” to read “National Geospatial-Intelligence Agency (NGA)”

4. The following paragraphs are amended by revising “NIMA” to read “NGA”: § 320.1 paragraph (a)(2); § 320.2 paragraphs (a), (c), (f), (h), and (i); § 320.3 paragraphs (a), (a)(1), (a)(2), (a)(4), (b)(6), and (c)(4); § 320.4 paragraphs (a), (b), (c), (c)(2), (d), and (e); § 320.5 paragraphs (a), (b), (b)(1), (b)(2), (b)(3), (c), (c)(1), (c)(2), and (d)(1); § 320.6 (b); § 320.7 paragraphs (a) and (b); § 320.8, paragraphs (b), (c), and (c)(1); § 320.9 paragraphs (a), (c)(5), and (c)(7); §§ 320.10 and 320.11; and § 320.12 paragraphs (a), (b)(3)(i), (b)(3)(v) and (b)(3)(vi).

Dated: January 7, 2004.
L.M. Bynum,
Alternate OSD Federal Register Liaison Officer, Department of Defense.

[FR Doc. 04-758 Filed 1-13-04; 8:45 am]

BILLING CODE 5001-06-P